DEPARTMENT OF LABOR

Employment and Training Administration

[TA-W-50,294]

Gates Rubber Company, Air Springs Division; Denver, CO; Notice of Termination of Investigation

Pursuant to section 221 of the Trade Act of 1974, as amended, an investigation was initiated on December 10, 2002, in response to a worker petition filed a company official on behalf of workers at Gates Rubber Company, Air Springs Division, Denver, Colorado.

The petitioner has requested that the petition be withdrawn. Consequently, further investigation would serve no purpose and the investigation under this petition has been terminated.

Signed in Washington, DC this 16th day of January, 2003.
Linda G. Poole,
Certifying Officer, Division of Trade Adjustment Assistance.

[FR Doc. 03-2562 Filed 2-3-03; 8:45 am]

BILLING CODE 4510-30-P